DEPARTMENT OF TRANSPORTATION

Office of the Secretary

14 CFR Parts 217, 241, 298

(Docket Nos OST-98-4043)

RIN 2105-AC71

Aviation Data Modernization

AGENCY: Office of the Secretary, Department of Transportation.

ACTION: Notice of withdrawal of proposed rulemaking.

SUMMARY: The Department of Transportation (the Department) is withdrawing a Notice of Proposed Rulemaking (NPRM) issued on February 17, 2005 (70 FR 8140 et seq.) that proposed revisions to the rules governing the nature, scope, source of and means for collecting and processing aviation traffic data.

We are withdrawing this NPRM because, after review of all comments, we have determined that the approach we proposed to solve the identified problems does not adequately address a number of aspects, including measures that could both enhance the utility, integrity and accuracy of the data and reduce the cost of reporting. This action is being taken to allow for later revision and refinement of a proposed methodology for aviation data modernization.

DATES: June 1, 2011.

FOR FURTHER INFORMATION CONTACT: Richard Pittaway, Office of Aviation Analysis, 1200 New Jersey Ave., SE., Room W86-461, Washington, DC 20590, (202) 366-8856.

Electronic Access: You can view and download related documents and public comments by going to the Web site http://www.regulations.gov. Enter the docket number DOT-OST-1998-4043 in the search field.

SUPPLEMENTARY INFORMATION:

Background

On July 15, 1998, the Department published an Advance Notice of Proposed Rulemaking (ANPRM) (63 FR 28128) requesting comment on a variety of issues related to aviation economic data collection. The ANPRM noted that the Origin-Destination Survey of Airline Passenger Traffic (O&D Survey) and Form 41, Schedule T-100—U.S. Air Carrier Traffic and Capacity Data by Nonstop Segment and On-flight Market and Form 41, and Schedule T-100(f)—Foreign Air Carrier Traffic and Capacity Data by Nonstop Segment and On-flight Market (the last two are known collectively as the T-100/T-100(f))O&D Survey and the T-100/T-100(f)) may not provide sufficiently reliable data in some circumstances to ensure that the Department can meet its obligation to disseminate information that enables the transportation system to adapt to the present and future needs of the American public. At that time, we stated our concern that the aviation data systems should be reviewed and modernized in order to meet our statutory responsibilities.

Also, because of difficulties private industry would have in assembling these data, the need for scheduled air traffic information cannot be satisfied other than through governmental means. However, while there are no other sources of comprehensive traffic data available in the aviation industry, a significant market exists in supplying services to supplement the Department's information offerings using the service provider's own statistical insight and experience. The public, academics, manufacturers, airports, air carriers, local, state and various branches of the Federal government all remain dependent on the reliability of this commercially enhanced data.

Approximately 50 comments were filed in response to the ANPRM by airlines, airports, trade associations, unions, and private citizens who use this data. Commenters confirmed that these data are not only critical to the work of both private and public aviation stakeholders (including the reporting airlines themselves), but that there are universal concerns about the capability and accuracy of the existing data collection to satisfy the changing needs of the industry and its stakeholders. The respondents overwhelmingly agreed that the O&D Survey and the T100 segment data were essential. Commenters repeatedly mentioned that the current data elements collected were insufficient to meet the data needs of the public and the aviation industry now and in the future. There was near universal agreement that the data suffer from lack of quality and lack of consistency. Deficiencies in the O&D Survey and in the T-100/T-100(f) further reduce the ability of the data to meet the needs of the aviation community.

On February 17, 2005, OST published a notice of proposed rulemaking (NPRM) (70 FR 8140 et seq.) as part of the Department's effort to revise the requirements for aviation data to modernize the way we collect, process, and disseminate aviation data. The NPRM reflected analysis of the O&D Survey and T-100/T-100(f) data, and it documented the use of that data by the government, the airline industry, consumers, and other stakeholders. We proposed revisions to the rules governing the nature, scope, source of and means for collecting and processing this aviation traffic data.

At the time the notice was published, we noted that the Department has a statutory responsibility to collect and disseminate information about aviation transportation in the U.S. The Department must, at minimum, collect information on the origin and destination of passengers and information on the number of passengers traveling by air between any two points in air transportation, 49 U.S.C. sec. 329(b). Additionally, the Department is charged with maintaining a sound regulatory system that is responsive to the needs of the public, and must disseminate information to make it easier to adapt the air transportation system to the present and future needs of the commerce of the United States (49 U.S.C. 40101(a) (7)).

We also acknowledged the Department's responsibility to maximize the quality, objectivity, utility, and integrity of influential statistical information it disseminates. Although the O&D Survey collected quarterly and the T-100/T-100(f) collected monthly are the means by which the Department disseminates aviation traffic information, the NPRM identified various technical deficiencies and limitations in the data.

In the 2005 NPRM, we also proposed a plan to create the O&D Survey using a fundamentally different collection methodology and considered commensurate changes in the collection of the T-100/T-100(f). In addition to seeking comments on the change of methodology, we sought input into other key topics such as information about what kind of data should be withheld from release for reasons of competitive sensitivity.

Discussion of Comments

In response to the 2005 NPRM, the Department received substantive comments from ten organizations or groups, and limited comments from twelve additional groups or organizations. Most of the commenters were airlines or aviation trade associations, but some of the other users of the data also provided comments. While there was opposition to certain aspects of the Department's proposed methodology for collecting data, no comments filed in response to the NPRM disputed the Department's authority to gather aviation information, the Department's review of the data's current deficiencies, the Department's assessment of the data's limitations, or the Department's assertion that the current traffic statistics had outlived the economic model for which it was designed. We, therefore, conclude that there is support for obtaining and disseminating accurate aviation traffic data by aligning it with modern airline business practices, but that the methodology we proposed may not have been the best solution to repair the deficiencies in the system.

The Department's proposal for collecting aviation traffic data continued to rely on the airline passenger revenue accounting system as the principal source of data. However, we proposed changing the carrier designated to report the data, increasing the scope and volume of data collected, and reducing the number of reporting exemptions. The NPRM also sought comments on several specific issues to achieve greater uniformity in statistical reporting in light of the industry's divergent business models. We believed that changing the carrier responsible for reporting a ticket to the ticket issuing carrier would be a significant simplification in the airline's process of reporting and would, therefore, result in a reduction of reporting costs. While there was considerable support for these changes, the comments indicated that some believed that the burdens of reporting the data would still be disproportionately high.

We proposed a specific set of data elements that we anticipated would be necessary in the new methodology to define one-way trips, and asked for comment on how to construct the one-way trips. However, no one-way trip methodology appeared in the record, leading a number of commenters to claim that the Department had not sufficiently articulated a rationale for collecting the newly proposed data elements.

Similarly, the Department proposed that the public supply guidance regarding how the Department should safeguard competitively sensitive information, but no such safeguards were suggested in the comments. With no specific proposals for safeguards in the record, a number of commenters asserted that the Department had not made sufficient plans to safeguard competitively sensitive information.

In addition, the Department pointed to evidence that the current ticket sample methodology produces a sample that could be impacted by decisions at travel agencies to assign ticket numbers at their own convenience for their own reasons. We have no authority to regulate such activities of travel agents, and so the Department proposed to either change the method of creating the sample or to do away with sampling and collect a census of data. Despite evidence presented in the NPRM that the current 10% sampling system produces a biased sample of inconsistent size and inadequate scope, and the Department's calculation indicating that to ensure reasonable accuracy the target sample size should be a minimum of 24.34% of the total enplaned passengers, several airlines commented that a 20% sample with no change in collection methodology would be easier to implement and therefore preferable to the Department's proposal.

Although many stakeholders provided comments on the manner in which data could be collected, it is the airlines who must supply the data and are, therefore, in the best position to effectively comment on the difficulty of producing the data. Some airlines questioned certain aspects of the rulemaking's data collection proposal, characterizing the changes as potentially expensive and cumbersome. No airline, however, suggested an alternative, statistically defensible proposal for collection of data that would be less expensive and less cumbersome while simultaneously producing the desired improvements in the utility of the data.

Reason for Withdrawal

The stated purposes of this rulemaking were to (1) Reduce the long-term reporting burden on the Participating Carriers, (2) make the O&D Survey more relevant and useful, (3) reduce the time it takes to disseminate the information and (4) achieve 95% statistical correlation between the O&D Survey and the T-100/T-100(f).

In light of the responses to the NPRM, we have determined that it will be in the public interest to significantly modify our proposal to modernize aviation data products. We have also determined that an additional request for public comment based on the current proposal would not provide us with the information we need in order to accomplish our purpose.

We have engaged a contractor with expertise in the industry to identify necessary and useful system features, and to address how data collection can be aligned with modern airline information technology so as to minimize the data-reporting burden on air carriers. Further, the contractor will assist the Department in assessing alternatives to the Department's proposal as stated in the NPRM that will help all stakeholders realize a better value for the investment in the data modernization effort.

Although this rulemaking is being withdrawn, the Department anticipates the issuance at a later date of a new NPRM and will continue to involve the public in its effort to increase efficiency, effectiveness, integrity, quality, and utility of the aviation traffic information available, in a way that is also sensitive to the information collection costs that would be imposed on the carriers.

Issued in Washington, DC on May 25, 2011.
Susan L. Kurland,
Assistant Secretary.

[FR Doc. 2011-13554 Filed 5-31-11; 8:45 am]

BILLING CODE 4910-9X-P